FEDERAL COMMUNICATIONS COMMISSION

47 CFR Part 73

[DA 06-263; MB Docket No. 05-267, RM-10365, RM-11278]

Radio Broadcasting Services; Ocala, FL, and St. Simons Island, GA

AGENCY: Federal Communications Commission.

ACTION: Final rule.

SUMMARY: In response to a Notice of Proposed Rule Making, 70 FR 59293 (October 12, 2005), this Report and Order allots Channel 229C3 to St. Simons Island, Georgia, as its second local aural transmission service. The coordinates for Channel 229C3 at St. Simons Island, Georgia, are 31-14-54 NL and 81-29-57 WL, with a site restriction of 16.4 kilometers (10.2 miles) northwest of the center city coordinates for St. Simons Island. Further, the Report and Order reclassifies Station WOGK(FM), Ocala, Florida, from Channel 229C to Channel 229C0, in order to accommodate the allotment of Channel 229C3 to St. Simons Island, Georgia.

DATES: Effective March 23, 2006.

FOR FURTHER INFORMATION CONTACT: R. Barthen Gorman, Media Bureau, (202) 418-2180.

SUPPLEMENTARY INFORMATION: This is a synopsis of the Commission's Report and Order in MB Docket No. 05-267, adopted February 2, 2006, and released February 6, 2006. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A). In addition, the Report and Order makes an editorial change in the existing FM Table of Allotments under Florida by replacing Channel 224A, Ocala, with Channel 225C2, Ocala.

List of Subjects in 47 CFR Part 73

Radio, Radio broadcasting.

Part 73 of Title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Georgia, is amended by adding Channel 229C3 at St. Simons Island.

3. Section 73.202(b), the Table of FM Allotments under Florida, is amended by removing Channel 229C and Channel 224A and by adding Channel 229C0 and Channel 225C2 at Ocala.

Federal Communications Commission.
John A. Karousos,
Assistant Chief, Audio Division, Media Bureau.

[FR Doc. 06-1520 Filed 2-21-06; 8:45 am]

BILLING CODE 6712-01-P